DEPARTMENT OF HOMELAND SECURITY

Federal Emergency Management Agency

44 CFR Part 67

[Docket No. FEMA-B-7795]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before October 21, 2008.

ADDRESSES: The corresponding preliminary Flood Insurance Rate Map (FIRM) for the proposed BFEs for each community are available for inspection at the community's map repository. The respective addresses are listed in the table below.

You may submit comments, identified by Docket No. FEMA-B-7795, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
Unincorporated Areas of Siskiyou County, California
California | Unincorpo­rated Areas of Siskiyou County | Panther Creek (shallow flooding) | Approximately 1,200 feet southwest of the intersection of Squaw Valley Road and Highway 89. Flood extends west towards Modoc Avenue | None | # 2
California | Unincorpo­rated Areas of Siskiyou County | Panther Creek Overflow (shallow flooding) | Immediately south of and adjacent to Highway 89, starting near the intersection of Squaw Valley Road and Highway 89. Flooding encompasses portions of both sides of Squaw Valley Road for a southerly distance of approximately 3,000 feet | None | # 2
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Siskiyou County
Maps are available for inspection at the Siskiyou County Public Works Department, 305 Butte Street, Yreka, CA.
Ashland County, Ohio
Ohio | Ashland County | Lang Creek | Approximately 200 feet upstream of eastern corporate limit of the City of Ashland | None | +983
|  |  | At Orange Street | None | +990
Ohio | Ashland County | Town Run | Approximately 410 feet downstream of Brookside Golf Course Drive | None | +1126
|  |  | At Brookside Golf Course Drive | None | +1144
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Ashland County
Maps are available for inspection at 110 Cottage Street, Ashland, OH 44805.

Flooding source(s) | Location of referenced elevation ** | * Elevation in feet (NGVD) + Elevation in feet (NAVD) # Depth in feet above ground: Effective | * Elevation in feet (NGVD) + Elevation in feet (NAVD) # Depth in feet above ground: Modified | Communities affected
Alameda County, California, and Incorporated Areas
Castro Valley Creek (Line I) | Approximately 800 feet downstream of North 4th Street | +124 | +125 | Unincorporated Areas of Alameda County, City of Hayward.
| Upstream side of Pine Street | +167 | +168
Castro Valley Creek (Line J) | At the confluence with Castrol Valley Creek | +165 | +164 | Unincorporated Areas of Alameda County.
| Approximately 70 feet upstream of Seaview Avenue | None | +332
Chabot Creek (Line G) | Approximately 0.5 mile downstream of Grove Way | None | +110 | Unincorporated Areas of Alameda County, City of Hayward.
| Approximately 700 feet upstream of Wisteria Street | +173 | +172
Shallow Flooding | Between Pine Street and Castro Valley Boulevard | +168 | +169 | Unincorporated Areas of Alameda County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Hayward
Maps are available for inspection at City of Hayward Engineering and Transportation Division, 777 B Street, Hayward, CA.
Unincorporated Areas of Alameda County
Maps are available for inspection at Alameda County Public Works Agency, 399 Elmhurst Street, Hayward, CA.
Buncombe County, North Carolina, and Incorporated Areas
Beaverdam Creek (into French Broad River) Tributary 1 | Approximately 900 feet upstream of Hillcrest Road | None | +2107 | Town of Woodfin, Unincorporated Areas of Buncombe County.
| Approximately 340 feet upstream of Baird Cove Road (State Road 2088) | None | +2348
Sweeten Creek Tributary 4 | At the confluence with Sweeten Creek | +2082 | +2078 | Unincorporated Areas of Buncombe County, City of Asheville.
| Approximately 1,150 feet upstream of West Chapel Road | +2150 | +2139
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Asheville
Maps are available for inspection at Asheville City Hall, 70 Court Plaza, Asheville, NC.
Town of Woodfin
Maps are available for inspection at Woodfin Town Hall, 90 Elk Mountain Road, Woodfin, NC.
Unincorporated Areas of Buncombe County
Maps are available for inspection at Buncombe County Planning Department, 46 Valley Street, Asheville, NC.
Surry County, North Carolina, and Incorporated Areas
Ararat River | At the confluence with Yadkin River | None | +803 | Unincorporated Areas of Surry County, City of Mount Airy.
| Approximately 1,500 feet upstream of Riverside Drive (State Road 104) | None | +1194
Ararat River Tributary 1 | At the confluence with Ararat River | None | +810 | Unincorporated Areas of Surry County.
| Approximately 0.5 mile upstream of the confluence with Ararat River | None | +870
Ararat River Tributary 2 | At the confluence with Ararat River | None | +813 | Unincorporated Areas of Surry County.
| Approximately 0.4 mile upstream of John Scott Road (State Road 2079) | None | +842
Ararat River Tributary 3 | At the confluence with Ararat River | None | +818 | Unincorporated Areas of Surry County.
| Approximately 0.6 mile upstream of Reeves Road (State Road 2083) | None | +856
Ararat River Tributary 4 | At the confluence with Ararat River | None | +818 | Unincorporated Areas of Surry County.
| Approximately 1.2 miles upstream of Pilot Church Road (State Road 2057) | None | +913
Ararat River Tributary 5 | At the confluence with Ararat River | None | +825 | Unincorporated Areas of Surry County.
| Approximately 0.6 mile upstream of the confluence with Ararat River | None | +900
Ararat River Tributary 6 | At the confluence with Ararat River | None | +841 | Unincorporated Areas of Surry County.
| Approximately 20 feet upstream of Nichols Road (State Road 2105) | None | +872
Ararat River Tributary 6A | At the confluence with Ararat River Tributary 6 | None | +862 | Unincorporated Areas of Surry County.
| Approximately 530 feet upstream of the confluence with Ararat River Tributary 6 | None | +869
Ararat River Tributary 7 | At the confluence with Ararat River | None | +867 | Unincorporated Areas of Surry County.
| Approximately 0.4 mile upstream of the confluence with Ararat River | None | +884
Ararat River Tributary 8 | At the downstream side of Riverside Drive | +1036 | +1037 | City of Mount Airy.
| Approximately 130 feet downstream of Springs Road | None | +1135
Ararat River Tributary 9 | At the confluence with Ararat River | +1088 | +1089 | Unincorporated Areas of Surry County.
| Approximately 0.9 mile upstream of the confluence with Ararat River | None | +1135
Bear Creek | At the confluence with Fisher River | None | +886 | Unincorporated Areas of Surry County.
| Approximately 1.5 miles upstream of the confluence with Fisher River | None | +940
Beaver Creek | At the confluence with Fisher River | None | +955 | Unincorporated Areas of Surry County.
| Approximately 1.0 mile upstream of Simpson Mill Road (State Road 2200) | None | +1046
Beaverdam Creek | At the confluence with Little Fisher River | None | +1078 | Unincorporated Areas of Surry County.
| Approximately 1.2 miles upstream of the confluence with Hatchers Creek | None | +1130
Benson Creek | At the upstream side of Sparger Road | None | +1068 | Unincorporated Areas of Surry County.
| Approximately 0.9 mile upstream of Sparger Road | None | +1109
Brendle Branch | At the confluence with Camp Creek | None | +944 | Unincorporated Areas of Surry County.
| Approximately 0.9 mile of Interstate 77 | None | +1000
Brushy Fork | Approximately 700 feet upstream of the confluence with Pauls Creek | +1119 | +1118 | Unincorporated Areas of Surry County, City of Mount Airy.
| Approximately 0.5 mile upstream of White Pines Country Club Road (State Road 1627) | None | +1175
Brushy Fork Tributary 1 | At the confluence with Brushy Fork | None | +1130 | Unincorporated Areas of Surry County.
| Approximately 0.6 mile upstream of the confluence with Brushy Fork | None | +1171
Bull Creek | At the confluence with Ararat River | None | +875 | Unincorporated Areas of Surry County.
| Approximately 1.0 mile upstream of Ararat Road (State Road 2019) | None | +1024
Butler Creek | At the confluence with Mitchell River | None | +1248 | Unincorporated Areas of Surry County.
| Approximately 210 feet upstream of Luffman Road | None | +1279
Caddle Creek | At the confluence with Ararat River | None | +940 | Unincorporated Areas of Surry County.
| Approximately 0.6 mile upstream of Siloam Road (State Road 1003) | None | +1018
Camp Branch | At the confluence with Fisher River | None | +1251 | Unincorporated Areas of Surry County.
| Approximately 200 feet upstream of West Pine Street | None | +1274
Camp Creek | At the confluence with Mitchell River | None | +914 | Unincorporated Areas of Surry County, Town of Elkin.
| Approximately 0.8 mile upstream of I-77 Highway | None | +978
Candiff Creek | At the confluence with Yadkin River | None | +811 | Unincorporated Areas of Surry County.
| Approximately 1,690 feet upstream of the confluence with Candiff Creek Tributary 2 | None | +894
Candiff Creek Tributary 1 | At the confluence with Candiff Creek | None | +811 | Unincorporated Areas of Surry County.
| Approximately 1,260 feet upstream of River Siloam Road (State Road 2230) | None | +857
Candiff Creek Tributary 2 | At the confluence with Candiff Creek | None | +875 | Unincorporated Areas of Surry County.
| Approximately 0.7 mile upstream of the confluence with Candiff Creek | None | +923
Champ Creek | Approximately 450 feet upstream of Slate Road | None | +1040 | City of Mount Airy.
| Approximately 700 feet upstream of McBride Road | None | +1065
Chinquapin Creek | At the confluence with Toms Creek | None | +957 | Unincorporated Areas of Surry County, Town of Pilot Mountain.
| Approximately 0.8 mile upstream of Old Westfield Road (State Road 1809) | None | +982
Cody Creek | At the confluence with Fisher River | None | +904 | Unincorporated Areas of Surry County.
| Approximately 1.7 miles upstream of NC 268 Highway | None | +1021
Cooks Creek | At the confluence with Fisher River | None | +1025 | Unincorporated Areas of Surry County.
| Approximately 0.4 mile upstream of White Buffalo Road (State Road 1353) | None | +1084
Davenport Creek | At the confluence with Fisher River | None | +850 | Unincorporated Areas of Surry County.
| Approximately 0.6 mile upstream of the confluence with Fisher River | None | +898
Dunagan Creek | At the confluence with Fisher River | None | +873 | Unincorporated Areas of Surry County.
| Approximately 0.4 mile upstream of Buck Fork Road (State Road 2233) | None | +901
Dutchmans Creek | At the confluence with Yadkin River | None | +896 | Town of Elkin.
| Approximately 0.6 mile upstream of the confluence with Yadkin River | None | +898
East Double Creek | At the confluence with Yadkin River | None | +822 | Unincorporated Areas of Surry County.
| Approximately 0.7 mile upstream of Rome Snow Road (State Road 2229) | None | +941
East Double Creek Tributary 1 | At the confluence with East Double Creek | None | +874 | Unincorporated Areas of Surry County.
| Approximately 0.7 mile upstream of the confluence with East Double Creek | None | +939
Elkin Creek | Approximately 50 feet upstream of Dam | +902 | +901 | Town of Elkin.
| Approximately 0.8 mile upstream of CC Camp Road | None | +945
Faulkner Creek | Approximately 0.5 mile upstream of the confluence with Ararat River | None | +1007 | Unincorporated Areas of Surry County, City of Mount Airy.
| Approximately 1.1 miles upstream of Quaker Road (State Road 1742) | None | +1194
Faulkner Creek Tributary 1 | At the confluence with Faulkner Creek | None | +1035 | Unincorporated Areas of Surry County.
| Approximately 0.5 mile upstream of the confluence with Faulkner Creek | None | +1059
Fisher River | At the confluence with Yadkin River | None | +847 | Unincorporated Areas of Surry County, Town of Dobson.
| Approximately 1.1 miles upstream of Lumber Plant Road (State Road 1600) | None | +2009
Fisher River Tributary 1 | At the confluence with Fisher River | None | +915 | Unincorporated Areas of Surry County.
| Approximately 0.7 mile upstream of Rockford Road | None | +974
Fisher River Tributary 1A | At the confluence with Fisher River Tributary 1 | None | +940 | Unincorporated Areas of Surry County.
| Approximately 0.8 mile upstream of the confluence with Fisher River Tributary 1 | None | +1098
Fisher River Tributary 2 | At the confluence with Fisher River | None | +964 | Unincorporated Areas of Surry County.
| Approximately 1,420 feet downstream of Turkey Ford Church Road | None | +1028
Fisher River Tributary 3 | At the confluence with Fisher River | None | +978 | Unincorporated Areas of Surry County.
| Approximately 0.8 mile upstream of the confluence with Fisher River | None | +1010
Fisher River Tributary 4 | At the confluence with Fisher River | None | +1026 | Unincorporated Areas of Surry County.
| Approximately 0.8 mile upstream of the confluence with Fisher River | None | +1109
Fisher River Tributary 5 | At the confluence with Fisher River | None | +1074 | Unincorporated Areas of Surry County, Town of Dobson.
| Approximately 820 feet upstream of Tobe Hudson Road (State Road 1342) | None | +1086
Flat Branch | At the confluence with South Fork Mitchell River | None | +1108 | Unincorporated Areas of Surry County.
| Approximately 0.7 mile upstream of the confluence with South Fork Mitchell River | None | +1156
Flat Shoal Creek | At the confluence with Ararat River | None | +900 | Unincorporated Areas of Surry County.
| Approximately 490 feet upstream of Simmons Road (State Road 1827) | None | +1071
Flat Shoal Creek Tributary 1 | At the confluence with Flat Shoal Creek | None | +990 | Unincorporated Areas of Surry County.
| Approximately 0.5 mile upstream of Willow Shade Lane | None | +1033
Grassy Creek | At the confluence with Yadkin River | None | +762 | Unincorporated Areas of Surry County.
| Approximately 0.7 mile upstream of Pilot Knob Park Road (State Road 2053) | None | +1027
Grassy Creek Tributary 1 | At the confluence with Grassy Creek | None | +792 | Unincorporated Areas of Surry County.
| Approximately 0.5 mile upstream of the confluence with Grassy Creek | None | +824
Grassy Creek Tributary 2 | At the confluence with Grassy Creek | None | +797 | Unincorporated Areas of Surry County.
| Approximately 1.2 miles upstream of the confluence with Grassy Creek | None | +905
Grassy Creek Tributary 3 | At the confluence with Grassy Creek | None | +804 | Unincorporated Areas of Surry County.
| Approximately 1.0 mile upstream of the confluence with Grassy Creek | None | +892
Grassy Creek Tributary 4 | At the confluence with Grassy Creek | None | +834 | Unincorporated Areas of Surry County.
| Approximately 1,390 feet downstream of Shadow Creek Trail | None | +879
Grassy Creek Tributary 5 | At the confluence with Grassy Creek | None | +845 | Unincorporated Areas of Surry County.
| Approximately 0.9 mile upstream of Pinnacle Hotel Road | None | +1008
Grassy Creek Tributary 5A | At the confluence with Grassy Creek Tributary 5 | None | +858 | Unincorporated Areas of Surry County.
| Approximately 240 feet downstream of Pinnacle Hotel Road (State Road 2061) | None | +986
Grassy Creek Tributary 5B | At the confluence with Grassy Creek Tributary 5 | None | +886 | Unincorporated Areas of Surry County.
| Approximately 0.5 mile upstream of the confluence with Grassy Creek Tributary 5 | None | +934
Grassy Creek Tributary 6 | At the confluence with Grassy Creek | None | +858 | Unincorporated Areas of Surry County.
| Approximately 380 feet upstream of Mt. Zion Road (State Road 2064) | None | +931
Grassy Creek Tributary 7 | At the confluence with Grassy Creek | None | +884 | Unincorporated Areas of Surry County.
| Approximately 1.1 miles upstream of Santa Fe Trail | None | +1042
Grassy Creek Tributary 8 | At the confluence with Grassy Creek | None | +905 | Unincorporated Areas of Surry County.
| Approximately 1,500 feet upstream of the confluence with Grassy Creek | None | +915
Grassy Creek Tributary 9 | At the confluence with Grassy Creek | None | +977 | Unincorporated Areas of Surry County.
| Approximately 1,500 feet upstream of the confluence with Grassy Creek | None | +997
Grassy Creek West | At the Surry/Wilkes County boundary | None | +987 | Town of Elkin.
| Approximately 1,300 feet upstream of the Surry/Wilkes County boundary | None | +1002
Hagan Creek | At the confluence with Yadkin River | None | +807 | Unincorporated Areas of Surry County.
| Approximately 1.9 miles upstream of Miller Gap Road | None | +1068
Hagan Creek Tributary 1 | At the confluence with Hagan Creek | None | +848 | Unincorporated Areas of Surry County.
| Approximately 380 feet upstream of Solitude Trail | None | +891
Hagan Creek Tributary 2 | At the confluence with Hagan Creek | None | +939 | Unincorporated Areas of Surry County.
| Approximately 0.6 mile upstream of the confluence with Hagan Creek | None | +973
Hagan Creek Tributary 3 | At the confluence with Hagan Creek | None | +972 | Unincorporated Areas of Surry County.
| Approximately 0.9 mile upstream of the confluence with Hagan Creek | None | +1024
Hatchers Creek | At the confluence with Beaverdam Creek | None | +1101 | Unincorporated Areas of Surry County.
| Approximately 230 feet upstream of Beulah Road | None | +1122
Heatherly Creek | At the confluence with Toms Creek | None | +918 | Unincorporated Areas of Surry County, Town of Pilot Mountain.
| Approximately 980 feet upstream of Nelson Street | None | +1130
Horne Creek | At the confluence with Yadkin River | None | +764 | Unincorporated Areas of Surry County.
| Approximately 1,780 feet upstream of the confluence of Horne Creek Tributary 1 | None | +833
Horne Creek Tributary 1 | At the confluence with Horne Creek | None | +818 | Unincorporated Areas of Surry County.
| Approximately 0.4 mile upstream of the confluence of Horne Creek Tributary 1A | None | +861
Horne Creek Tributary 1A | At the confluence with Horne Creek Tributary 1 | None | +831 | Unincorporated Areas of Surry County.
| Approximately 1,400 feet upstream of the confluence with Horne Creek Tributary 1 | None | +855
Jackson Creek | At the confluence with Cooks Creek | None | +1025 | Unincorporated Areas of Surry County.
| Approximately 1.1 miles upstream of the confluence with Cooks Creek | None | +1062
Jackson Creek Tributary 1 | At the confluence with Jackson Creek | None | +1028 | Unincorporated Areas of Surry County.
| Approximately 200 feet downstream of Rockford Street | None | +1055
Jackson Creek Tributary 2 | At the confluence with Jackson Creek | None | +1030 | Unincorporated Areas of Surry County.
| Approximately 100 feet downstream of Smith Road (State Road 1354) | None | +1067
Johnson Creek | Approximately 100 feet upstream of Riverside Drive | None | +1062 | Unincorporated Areas of Surry County, City of Mount Airy.
| Approximately 1.5 miles upstream of Riverside Drive | None | +1097
King Creek | At the confluence with Cody Creek | None | +925 | Unincorporated Areas of Surry County.
| Approximately 1,710 feet upstream of U.S. 601 Highway | None | +1002
Little Beaver Creek | At the confluence with Fisher River | None | +925 | Unincorporated Areas of Surry County.
| Approximately 50 feet downstream of Copeland School Road (State Road 2209) | None | +1046
Little Creek | At the confluence with Snow Creek | None | +973 | Unincorporated Areas of Surry County.
| Approximately 810 feet upstream of Melton Road (State Road 1127) | None | +1244
Little Fisher River | At the confluence with Fisher River | None | +1027 | Unincorporated Areas of Surry County.
| Approximately 2.2 miles upstream of Richards Road (State Road 1614) | None | +1209
Little Fisher River Tributary 1 | At the confluence with Little Fisher River | None | +1041 | Unincorporated Areas of Surry County.
| Approximately 0.7 mile upstream of the confluence with Little Fisher River | None | +1077
Little Fisher River Tributary 2 | At the confluence with Little Fisher River | None | +1103 | Unincorporated Areas of Surry County.
| Approximately 800 feet downstream of Dynasty Lane | None | +1151
Little Fisher River Tributary 3 | At the confluence with Little Fisher River | None | +1112 | Unincorporated Areas of Surry County.
| Approximately 550 feet upstream of NC Highway 89 | None | +1143
Little Fisher River Tributary 3A | At the confluence with Little Fisher River Tributary 3 | None | +1113 | Unincorporated Areas of Surry County.
| Approximately 0.6 mile upstream of the confluence with Little Fisher River Tributary 3 | None | +1135
Little Yadkin River | At the confluence with Yadkin River | None | +758 | Unincorporated Areas of Surry County.
| Approximately 1.0 mile upstream of the confluence with Yadkin River | None | +767
Long Creek | At the confluence with Mitchell River | None | +1402 | Unincorporated Areas of Surry County.
| Approximately 1.1 miles upstream of the confluence with Mitchell River | None | +1575
Lovills Creek | Approximately 0.5 mile upstream of the confluence with Ararat River | +992 | +991 | Unincorporated Areas of Surry County, City of Mount Airy.
| Approximately 1.5 miles upstream of Greenhill Road | None | +1106
Mill Creek | At the confluence with Mitchell River | None | +1099 | Unincorporated Areas of Surry County.
| Approximately 650 feet upstream of Ed Nixon Road (State Road 1321) | None | +1158
Mitchell River | At the confluence with Yadkin River | None | +875 | Unincorporated Areas of Surry County.
| Approximately 2.2 miles upstream of Haystack Road (State Road 1328) | None | +1480
Moores Fork | Approximately 1,300 feet upstream of the confluence with Stewarts Creek | +1077 | +1078 | Unincorporated Areas of Surry County.
| Approximately 0.5 mile upstream of Race Track Road (State Road 1620) | None | +1099
Moores Fork Tributary 1 | At the confluence with Moores Fork | None | +1085 | Unincorporated Areas of Surry County.
| Approximately 1,570 feet upstream of NC Highway 89 | None | +1110
North Fork Mitchell River | At the confluence with Mitchell River | None | +1232 | Unincorporated Areas of Surry County.
| Approximately 0.5 mile upstream of the confluence with Mitchell River | None | +1248
North Prong South Fork Mitchell River | At the confluence with South Fork Mitchell River | None | +1212 | Unincorporated Areas of Surry County.
| Approximately 0.4 mile upstream of Rams Ridge Trail | None | +1407
Pheasant Creek | At the confluence with Fisher River | None | +860 | Unincorporated Areas of Surry County.
| Approximately 1,980 feet upstream of Chandler Road (State Road 2238) | None | +910
Pilot Creek | At the confluence with Ararat River | None | +858 | Unincorporated Areas of Surry County, Town of Pilot Mountain.
| Approximately 750 feet upstream of Leonard Road | None | +1083
Pilot Creek Tributary 1 | At the confluence with Pilot Creek | None | +875 | Unincorporated Areas of Surry County.
| Approximately 0.4 mile upstream of Jim McKinney Road (State Road 2047) | None | +914
Pilot Creek Tributary 2 | At the confluence with Pilot Creek | None | +880 | Unincorporated Areas of Surry County.
| Approximately 0.5 mile upstream of the confluence with Pilot Creek | None | +912
Pilot Creek Tributary 3 | At the confluence with Pilot Creek | None | +936 | Unincorporated Areas of Surry County, Town of Pilot Mountain.
| Approximately 1,130 feet upstream of the confluence with Pilot Creek Tributary 3A | None | +999
Pilot Creek Tributary 3A | At the confluence with Pilot Creek Tributary 3 | None | +978 | Town of Pilot Mountain.
| Approximately 1,240 feet upstream of the confluence with Pilot Creek Tributary 3 | None | +1011
Pilot Creek Tributary 4 | At the confluence with Pilot Creek | None | +1005 | Unincorporated Areas of Surry County.
| Approximately 1,870 feet upstream of the confluence with Pilot Creek | None | +1056
Pine Branch | At the confluence with Mitchell River | None | +1110 | Unincorporated Areas of Surry County.
| Approximately 1,930 feet upstream of Millstone Trail | None | +1134
Potters Creek | At the confluence with Mitchell River | None | +1166 | Unincorporated Areas of Surry County.
| Approximately 0.9 mile upstream of the confluence with Mitchell River | None | +1220
Ring Creek | At the confluence with Little Fisher River | None | +1132 | Unincorporated Areas of Surry County.
| Approximately 1.0 mile upstream of Richards Road | None | +1166
Rutledge Creek | At the confluence with Ararat River | None | +972 | Unincorporated Areas of Surry County.
| Approximately 2.1 miles upstream of Reeves Mill Road (State Road 1774) | None | +1218
Rutledge Creek Tributary 1 | At the confluence with Rutledge Creek | None | +1077 | Unincorporated Areas of Surry County.
| Approximately 1,220 feet upstream of Reeves Mill Road (State Road 1776) | None | +1107
Seed Cane Creek | Approximately 100 feet upstream of the confluence with Ararat River | None | +994 | City of Mount Airy.
| Approximately 730 feet upstream of Kirkman Road | None | +1060
Skin Cabin Creek | At the confluence with Ararat River | None | +834 | Unincorporated Areas of Surry County.
| Approximately 0.7 mile upstream of Stanford Church Road (State Road 2086) | None | +950
Snow Creek | At the confluence with Mitchell River | None | +880 | Unincorporated Areas of Surry County.
| Approximately 0.9 mile upstream of I-77 Highway | None | +1260
Snow Creek Tributary | At the confluence with Snow Creek | None | +919 | Unincorporated Areas of Surry County.
| Approximately 1,540 feet downstream of Stanley Mill Road (State Road 1111) | None | +953
South Fork Mitchell River | At the confluence with Mitchell River | None | +984 | Unincorporated Areas of Surry County.
| Approximately 0.5 mile upstream of Silver Creek Way | None | +1623
South Fork Mitchell River Tributary 1 | At the confluence with South Fork Mitchell River | None | +1068 | Unincorporated Areas of Surry County.
| Approximately 80 feet downstream of Pat Nixon Road (State Road 1306) | None | +1091
South Fork Mitchell River Tributary 2 | At the confluence with South Fork Mitchell River | None | +1159 | Unincorporated Areas of Surry County.
| Approximately 250 feet downstream of Abe Mayes Road (State Road 1319) | None | +1205
South Fork Mitchell River Tributary 2A | At the confluence with South Fork Mitchell River Tributary 2 | None | +1173 | Unincorporated Areas of Surry County.
| Approximately 1,740 feet upstream of the confluence with South Fork Mitchell River Tributary 2 | None | +1206
South Fork Mitchell River Tributary 2B | At the confluence with South Fork Mitchell River Tributary 2 | None | +1178 | Unincorporated Areas of Surry County.
| Approximately 0.5 mile upstream of Oscar Calloway Road | None | +1210
Stewarts Creek | Approximately 0.5 mile upstream of Interstate 77 | None | +1226 | Unincorporated Areas of Surry County.
| At the NC/VA State boundary | None | +1309
Stewarts Creek Tributary 1 | At the confluence with Stewarts Creek | None | +1011 | Unincorporated Areas of Surry County, City of Mount Airy.
| Approximately 0.5 mile upstream of West Old McKinney Road (State Road 1429) | None | +1078
Stewarts Creek Tributary 2 | At the confluence with Stewarts Creek | None | +1058 | Unincorporated Areas of Surry County.
| Approximately 230 feet upstream of Oak Ridge Drive (State Road 1504) | None | +1248
Stewarts Creek Tributary 2A | At the confluence with Stewarts Creek Tributary 2 | None | +1117 | Unincorporated Areas of Surry County.
| Approximately 710 feet upstream of Melrose Trail | None | +1252
Stoney Creek | At the confluence with Ararat River | None | +916 | Unincorporated Areas of Surry County.
| Approximately 170 feet upstream of Mills Road | None | +1208
Toms Creek | At the confluence with Ararat River | None | +879 | Unincorporated Areas of Surry County, Town of Pilot Mountain.
| Approximately 0.5 mile upstream of Matthews Road (State Road 1830) | None | +964
Toms Creek Tributary 1 | At the confluence with Toms Creek | None | +909 | Unincorporated Areas of Surry County.
| Approximately 0.8 mile upstream of the confluence of Toms Creek Tributary 1A | None | +954
Toms Creek Tributary 1A | At the confluence with Toms Creek Tributary 1 | None | +919 | Unincorporated Areas of Surry County.
| Approximately 1,430 feet upstream of the confluence with Toms Creek Tributary 1 | None | +934
Toms Creek Tributary 2 | At the confluence with Toms Creek | None | +931 | Town of Pilot Mountain.
| Approximately 210 feet upstream of Foothill Farm Lane | None | +951
Turkey Creek | At the confluence with Yadkin River | None | +890 | Town of Elkin.
| Approximately 0.6 mile upstream of NC 268 Highway | None | +927
West Double Creek | At the confluence with East Double Creek | None | +822 | Unincorporated Areas of Surry County.
| Approximately 1.5 miles upstream of Old Rockford Road (State Road 2230) | None | +903
West Double Creek Tributary 1 | At the confluence with West Double Creek | None | +834 | Unincorporated Areas of Surry County.
| Approximately 0.5 mile upstream of Dobson Spring Trail | None | +899
West Double Creek Tributary 1A | At the confluence with West Double Creek Tributary 1 | None | +877 | Unincorporated Areas of Surry County.
| Approximately 0.5 mile upstream of the confluence with West Double Creek Tributary 1 | None | +907
Whittier Creek | At the confluence with Bull Creek | None | +931 | Unincorporated Areas of Surry County.
| Approximately 1.8 miles upstream of the confluence with Bull Creek | None | +987
Wood Branch | At the confluence with South Fork Mitchell River | None | +1117 | Unincorporated Areas of Surry County.
| Approximately 0.8 mile upstream of the confluence with South Fork Mitchell River | None | +1158
Yadkin River | At the Surry/Yadkin/Forsyth County boundary | None | +758 | Unincorporated Areas of Surry County, Town of Elkin.
| Approximately 1.2 miles upstream of the confluence with Elkin Creek | +904 | +903
Yadkin River Tributary 12 | At the confluence with Yadkin River | None | +866 | Unincorporated Areas of Surry County.
| Approximately 0.8 mile upstream of Railroad | None | +881
Yadkin River Tributary 13 | At the confluence with Yadkin River | None | +887 | Unincorporated Areas of Surry County.
| Approximately 1,260 feet upstream of NC 268 Highway | None | +895
Yadkin River Tributary 16 | At the confluence with Yadkin River | None | +824 | Unincorporated Areas of Surry County.
| Approximately 0.5 mile upstream of Railroad | None | +850
Yadkin River Tributary 18 | At the confluence with Yadkin River | None | +831 | Unincorporated Areas of Surry County.
| Approximately 10 feet upstream of Golden Eagle Trail | None | +885
Yadkin River Tributary 37 | At the confluence with Yadkin River | None | +800 | Unincorporated Areas of Surry County.
| Approximately 1,680 feet upstream of John Mickles Road (State Road 2075) | None | +852
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Mount Airy
Maps are available for inspection at Mount Airy City Hall, 300 South Main Street, Mount Airy, NC.
Town of Dobson
Maps are available for inspection at Dobson Town Hall, 307 North Main Street, Dobson, NC.
Town of Elkin
Maps are available for inspection at Elkin Town Hall, 226 North Bridge Street, Elkin, NC.
Town of Pilot Mountain
Maps are available for inspection at Pilot Mountain Town Hall, 124 West Main Street, Pilot Mountain, NC.
Unincorporated Areas of Surry County
Maps are available for inspection at Surry County Building Codes Administration, 118 Hamby Road, Suite 144, Dobson, NC.

(Catalog of Federal Domestic Assistance No. 97.022, “Flood Insurance.”)

Dated: July 14, 2008.
David I. Maurstad,
Federal Insurance Administrator of the National Flood Insurance Program, Department of Homeland Security, Federal Emergency Management Agency.

[FR Doc. E8-16812 Filed 7-22-08; 8:45 am]

BILLING CODE 9110-12-P